DEPARTMENT OF COMMERCE

National Oceanic and Atmospheric Administration

[I.D. 022607E]

International Whaling Commission; 59th Annual Meeting; Announcement of Public Meeting

AGENCY: National Marine Fisheries Service (NMFS), National

Oceanic and Atmospheric Administration (NOAA), Commerce.

ACTION: Notice of meeting.

SUMMARY: This notice announces the date and location of the public meeting being held prior to the 59th annual International Whaling Commission (IWC) meeting.

DATES: The public meeting will be held April 5, 2007, at 1 p.m.

ADDRESSES: The meeting will be held in the NOAA Science Center Room, 1301 East West Highway, Silver Spring, MD 20910.

FOR FURTHER INFORMATION CONTACT: Cheri McCarty, 301-713-9090, Extension 183.

SUPPLEMENTARY INFORMATION: The Secretary of Commerce is charged

with the responsibility of discharging the domestic obligations of the United States under the International Convention for the Regulation of Whaling, 1946. The U.S. Commissioner has responsibility for the preparation and negotiation of U.S. positions on international issues concerning whaling and for all matters involving the IWC. He is staffed by the Department of Commerce and assisted by the Department of State, the Department of the Interior, Marine Mammal Commission, and by other agencies.

Once the draft agenda for the annual IWC meeting is completed, it will be posted on the IWC Secretariat's website at http://www.iwcoffice.org.

Each year NOAA holds a meeting prior to the annual IWC meeting to discuss the tentative U.S. positions for the upcoming IWC meeting. Because the meeting discusses U.S. positions, the substance of the meeting must be kept confidential. Any U.S. citizen with an identifiable interest in U.S. whale conservation policy may participate, but NOAA reserves the authority to inquire about the interests of any person who appears at a meeting and to determine the appropriateness of that person's participation.

Persons who represent foreign interests may not attend. These stringent measures are necessary to protect the confidentiality of U.S. negotiating positions and are a necessary basis for the relatively open process of preparing for IWC meetings.

The meeting will be held at 1 p.m. at the NOAA Science Center Room, 1301 East West Highway, Silver Spring, MD 20910. Photo identification is required to enter the building.

Special Accommodations

These meetings are physically accessible to people with disabilities. Requests for sign language interpretation or other auxiliary aids should be directed to the Cheri McCarty, 301-713-9090 by March 26, 2007.

Dated: February 26, 2007.
William T. Hogarth,
Assistant Administrator for Fisheries, National Marine Fisheries Service.

[FR Doc. E7-3696 Filed 3-1-07; 8:45 am]

BILLING CODE 3510-22-S